DEPARTMENT OF AGRICULTURE

Rural Housing Service

Notice of Funding Availability (NOFA): Section 515 Rural Rental Housing Program for New Construction in Fiscal Year 2010

AGENCY: Rural Housing Service (RHS), USDA.

ACTION: Notice. Announcement Type: Inviting applications from eligible applicants for Fiscal Year (FY) 2010 funding.

Catalog of Federal Domestic Assistance Number (CFDA): 10.415 and 10.427.

SUMMARY: U.S. Department of Agriculture (USDA) Rural Development (Agency) administers the programs of the RHS. This NOFA announces the timeframe to submit applications for Section 515 Rural Rental Housing (RRH) new construction loan funds, including applications for the nonprofit set-aside for eligible nonprofit entities, set-aside for Rural Economic Area Partnership (REAP), and the set-aside for the most Underserved Counties and Colonias (Cranston-Gonzalez National Affordable Housing Act).

This document describes the methodology that will be used to distribute funds, the application process, submission requirements, and areas of special emphasis or consideration. For FY 2010, the Agency will provide scoring points to those proposals that have a goal of reaching a net zero energy consumption level during future project operations.

DATES: The deadline for receipt of all applications in response to this NOFA is 5 p.m., local time for each USDA Rural Development State Office 60 days from the published date of this Notice. The initial application closing deadline is firm as to date and hour. USDA Rural Development will not consider any initial application that is received after the closing deadline. Applicants intending to mail initial applications must provide sufficient time to permit delivery on or before the closing deadline date and time. Acceptance by the United States Postal Service or private mailer does not constitute delivery. Facsimile (FAX) and postage due applications will not be accepted.

FOR FURTHER INFORMATION CONTACT: Applicants must contact the applicable Rural Development State Office serving the State where the project will be built in order to submit an application. The State Office will provide further information pertaining to the application process, copy of the initial application package, and a list of designated places established under 7 CFR 3560.57 for new Section 515 facilities. A listing of USDA Rural Development State Offices, addresses, telephone numbers, and contact person can be found below in Section XI of this NOFA.

For general information, applicants may contact Melinda Price, Finance and Loan Analyst, Multi-Family Housing Preservation and Direct Loan Division, Rural Housing Service, U.S. Department of Agriculture, Federal Building Room 507, 200 North High St. Columbus, Ohio 43215-2418, telephone (614) 255-2403 (not a toll free number), or (800) 877-8339 (TDD-Federal Information Relay Service), or via e-mail melinda.price@wdc.usda.gov.

For questions regarding design and construction project delivery methods, questions about any of the energy efficiency and environmental sustainability programs, as well as questions about design and construction contracts should be directed to Meghan Walsh, A.I.A., LEED AP, Architect, USDA/RD/PSS, 1400 Independence Ave., SW., Mail Stop 0761, Washington, DC 20250, Rural Housing Service, (202) 205-9590 (not a toll free number) or (800) 877-8339 (TDD-Federal Information Relay Service), or via e-mail meghan.walsh@wdc.usda.gov.

SUPPLEMENTARY INFORMATION:

Programs Affected

The RRH program is listed in the Catalog of Federal Domestic Assistance under Number 10.415, Rural Rental Housing Loans. Rental Assistance is listed in the Catalog under Number 10.427, Rural Rental Assistance Payments.

Paperwork Burden Act

The information collection requirements contained in this Notice have received approval from the Office of Management and Budget (OMB) under Control Number 0570-0190.

Overview

The Agriculture, Rural Development, Food and Drug Administration, and Related Agencies Appropriations Act, 2010 (Pub. L. 111-80), October 16, 2009 details the level of funding. The Section 515 Multi-Family Housing (MFH) program is authorized by the Housing Act of 1949, as amended (42 U.S.C. 1485) and provides Rural Development with the authority to make loans for low-income MFH.

Program Administration

I. Authorities

Section 515 of the Housing Act of 1949, as amended, (42 U.S.C. 1485) provides USDA Rural Development with the authority to make loans to any individual, corporation, association, trust, Indian tribe, public or private nonprofit organization, which may include a faith-based or community organization, consumer cooperative, or partnership to provide rental or cooperative housing and related facilities in rural areas for very-low, low, or moderate income persons or families, including elderly persons and persons with disabilities. Rental assistance (RA) is a tenant subsidy for very-low and low-income families residing in rural rental housing facilities with USDA Rural Development financing. $2,030,000 in RA will be available for new construction in Fiscal Year (FY) 2010.

II. Description of Section 515 New Construction Funding Opportunity

The total amount available for FY 2010 for Section 515new construction is $18,902,349:

Non-Restricted | $8,808,935
Set-aside for non-profits | 4,617,827
Set-aside for Underserved Counties and Colonias | 3,475,587
REAP Zones available until June 30, 2010 | 2,000,000

All applications for new construction funding must qualify under one of the three Set-asides or as a non-restricted. Qualifications for the Set-asides are described in paragraph VII below. Those applications scoring highest in each of the four categories will be funded first. Any unused funds will revert to Non-restricted status.

III. Award Information

(A) Individual loan requests may not exceed $1 million. This applies to regular Section 515 funds and set-aside funds. The Administrator may make an exception to this limit in cases where a State's average total development costs exceed the National average by 50 percent or more.

(B) No State may receive more than 20 percent of the total amount available for new construction, including set-aside funds.

(C) Funding for this program will be equitably distributed across the country, and applied to all Five (5) Climate Zones within the U.S. as defined by the Department of Energy. A map of the 5 climate zones can be found at: http://www.eia.doe.gov/emeu/recs/climate_zone.html. The four highest scoring applications in each of the five climate zones will be selected for further processing. An Agency architect from each climate zone will be assigned to assist in evaluating applications.

IV. Eligibility Information

Applicants must meet the eligibility criteria as determined under 7 CFR 3560.55.

V. Application and Submission Information

(A) Application Requirements: All applications must be filed with the appropriate Rural Development State Office where the project will be located and must meet the requirements of 7 CFR 3560.56, as well as comply with the provisions of this NOFA. The USDA Rural Development State Office will date and time stamp incoming applications to evidence timely or untimely receipt, and, upon request, provide the applicant with a written acknowledgment of receipt. A list of State Office contacts may be found in Section XI of this NOFA. Incomplete applications will not be reviewed and will be returned to the applicant. No application will be accepted after 5 p.m., local time, on the application deadline previously mentioned unless that date and time is extended by a Notice published in the Federal Register.

(B) Submission Requirements: Each application shall include the information, documentation, forms and exhibits required by 7 CFR 3560.56, as well as comply with the provisions of this NOFA. Documents and information required in the application package are described as follows:

(1) Documents to establish applicant eligibility:

a. Form SF 424, Application for Federal Assistance.

b. Form RD 410-9, Statement Required by Privacy Act (for individuals).

c. Form RD 400-4, Assurance Agreement.

d. Form HUD 2530, Previous Participation Certification.

e. Current (within 6 months) financial statements with the following paragraph certified by an authorized individual, agent or representative with the legal authority to do so: “I/we certify the above is a true and accurate reflection of my/our financial condition as of the date stated herein. This statement is given for the purpose of inducing the United States of America to make a loan or to enable the United States of America to make a determination of continued eligibility of the applicant for a loan as requested in the loan application of which this statement is a part.”

f. Check for $28 from individual applicants and $40 from entity applicants made out to U.S. Department of Agriculture. This will be used to pay for credit reports obtained by USDA Rural Development.

g. Statement signed by applicants that they will pay any cost overruns.

h. If an entity applicant is selected, the Agency will require additional documentation as set forth in a Conditional Commitment in order to verify the entity has the legal and financial capability to carry out the obligations of the loan.

(2) Documents to establish project feasibility:

The applicant must provide the following:

a. Market feasibility documentation: Either a market study or a market survey, as appropriate.

b. Type of project and structures proposed (total number of units by bedroom size, size of each unit type, size and type of other facilities).

c. Schematic drawings: (Because projects are expected to be in pre-design or very early schematic design for application purposes, these drawings may be prepared only as preliminary sketches. It is expected that teams will be working in an integrated design method and therefore there will be changes to these sketches to meet energy-efficiency goals, if any)

(i) Site plan, including contour lines; Floor plan of each living unit type and other spaces, such as laundry facilities, community rooms, stairwells, etc.;

(ii) Building exterior elevations;

(iii) Typical building exterior wall section; and

(iv) Plot plan.

d. Description and justification of related facilities, and a schedule of separate charges for related facilities. Related facilities include community rooms that can be used by tenants and management at no additional charge to the tenants.

e. Type and method of construction (owner builder, negotiated bid, or contractor method).

f. Statement of estimated costs (Form RD 1924-13, Estimate and Certificate of Actual Costs). The selection of the contractor must be done through the process established in 7 CFR part 1924.

g. Statement of proposed management.

h. Congregate services package/plan (if applicable).

i. Statement of support from other Government services providers to the project (congregate only).

j. Response to the Uniform Relocation Assistance Act (if applicable).

(3) Documents for Project financing:

The applicant must provide the following:

a. Statement of budget and cash flow (applicant completes Form RD 3560-7, Multiple Family Housing Project Budget/Utility Allowance), including type of utilities and utility allowance, if applicable, and any contribution to the reserve account.

b. Congregate services charges (if applicable).

c. Status of efforts to obtain leveraged funds.

d. Proposed construction financing (interim or multiple advance; if interim financing, letter of interest from intended lender).

(4) Documents for environmental and site information:

a. Form RD 1940-20, Request for Environmental Information.

b. Evidence of compliance with Executive Order 12372 (A-95) (if applicable). Form SF 424 is sent to a clearinghouse for intergovernmental review.

c. A copy of the American Society for Testing and Materials (ASTM) Phase I Environmental Site Assessment to cover environmental due diligence. The ASTM Phase I Environmental Site Assessment will be obtained from the company or person who performs the environmental site assessment.

d. Map showing location of community services such as schools, hospitals, fire and police departments, shopping malls and employment centers.

e. Evidence of submission of the project description to the State Housing Preservation Office with request for comments.

f. The applicant's comments regarding relevant offsite conditions that may impact the project.

g. The applicant's explanation of any proposed energy efficiency components.

(5) Fillable forms to be included in initial application package may be found at the following links:

a. Form SF 424, Application for Federal Assistance, which can be found online at http://www.grants.gov/techlib/SF424-v2.0.pdf;

b. Form RD 1940-20, Request for Environmental Information, which can be found online at: http://www.rurdev.usda.gov/regs/forms/1940-20.pdf;

c. Form HUD 2530, Previous Participation Certification, which can be found online at: http://www.hud.gov/offices/adm/hudclips/forms/files/2530.pdf;

d. Form RD 1924-13, Estimate and Certificate of Actual Costs, which can be found online at: http://forms.sc.egov.usda.gov/efcommon/eFileServices/Forms/RD1924-13.pdf;

e. Form RD 400-4, Assurance Agreement, which can be found online at: http://www.rurdev.usda.gov/regs/forms/0400-04.pdf.

The following required forms are fillable and are available online but require e-authentication access. If the applicant does not have e-authentication access, the applicable State Office (Section XI) must be contacted for instructions and permission to obtain access or a copy of the form.

Form RD 3560-7, Multiple Family Housing Project Budget/Utility Allowance: https://formsadmin.sc.egov.usda.gov/efcommon/eFileServices/Forms/RD3560-0007_060500V01.pdf, Form RD 410-9, Statement Required by the Privacy Act (for individuals only) https://formsadmin.sc.egov.usda.gov/efcommon/eFileServices/Forms/RD0410-0009.pdf,

Applicants are encouraged, but not required, to include a checklist and to have their applications indexed and tabbed to facilitate the review process. The Rural Development State Office will base its determination of completeness of the application and the eligibility of each applicant on the information provided in the application. All applicants will receive a letter notifying them of their selection or rejection. Applicants that are selected will be given instructions on how to proceed, following the procedures established in 7 CFR part 3560.

VI. Selection Process

An amount of $8,808,935 is available for non-restricted Section 515 new construction. Initial applications shall be submitted to the States. States will then accept; review, score, and rank requests in accordance with 7 CFR 3560.56 and this NOFA. The four highest scoring applications in each of the five climate zones will receive further processing. The National Office will divide the applications by climate zone, rank all requests within each climate zone, and equitably distribute funds, within funding limits. If insufficient funds remain for the next ranked proposal, USDA Rural Development will select the next ranked proposal in that particular climate zone that falls within the remaining levels. Point score ties within a particular climate region will be handled in accordance with 7 CFR 3560.56(c)(2). All eligible and complete applications will be evaluated based on the following criteria:

(A) Net Zero Energy Consumption. In an effort to implement USDA's nationwide initiative to promote sustainable building development, energy-efficiency and conservation, USDA Rural Development has adopted a goal that all new MFH projects, financed in whole or in part by the USDA, will achieve net zero energy consumption—it will consume no more energy than it produces. As a results, points will be awarded for participation in this initiative pursuant to 7 CFR section 3560.56(c)(1)(iii). Program participation points will be awarded as follows:

(1) Participation in a System Third-Party Measured and Verified Sustainable Development and Energy-Efficiency program. The points will be allocated as follows: (maximum 37 points).

(a) Participate in the Department of Energy's Energy Star for Homes program: http://www.energystar.gov/index.cfm?c=bldrs_lenders_raters.nh_multifamily_units. (2 points);

(b) Participate in the Department of Energy's Builder's Challenge program: http://www1.eere.energy.gov/buildings/challenge/about.html. (6 points);

(c) Participation in the following programs will be awarded 5 points for each program with a maximum of 15 points.

(1) Green Communities program by the Enterprise Community Partners (http://www.enterprisecommunity.org);

(2) LEED for Homes program by the United States Green Building Council (USGBC) (http://www.usgbc.org); and

(3) The National Association of Home Builders (NAHB) ICC 700-2008 National Green Building Standard™ (http://www.nahb.org).

(d) Participation in higher certification levels. LEED for Homes and ICC 700-2008 National Green Building Standard™ each have four levels of increasingly challenging certification. For specific information on the different levels for these programs please refer to their websites listed above. Projects will receive an additional 2 points for each higher certification level commitment beyond the baseline of the program. (16 points maximum)

(e) Participate in local green/energy efficient building standards. Applicants, who participate in a city, county or municipality program, will receive an additional 2 points. Points will be awarded only if the applicant is cross-enrolled with a national program described under section VI.A.(1).

The applicant should be aware that most of the following requirements are embedded in the third-party programs rating and verification systems; the applicant should look at the requirements for each program for specific details:

(a) Team of qualified professionals in design and construction of sustainable buildings.

(b) Initial design charette, ongoing third party verification and post-construction operations & maintenance education.

(c) Tight building envelope with indoor air quality assurance.

(d) Program for education of tenants and property managers in operations and maintenance.

(2) Energy Generation. To reach USDA's goal of net zero energy consumption, it is essential to generate renewable energy on site which will complement a weather tight, well-insulated building envelope with highly efficient mechanical systems. Possible renewable energy generation technologies include: Wind turbines and micro-turbines, micro-hydro power, photovoltaics, solar hot water systems and biomass/biofuel systems that do not use fossil fuels in production. Geo-exchange systems are highly encouraged as they lessen the total demand for energy and, if supplemented with other renewable energy sources, can achieve zero energy consumption more easily. Energy analysis of preliminary building plans using industry recognized simulation software should document the projected energy consumption of the building, the portion of building consumption which will be satisfied through on-site generation, and the building's HERS (Home Energy Rating System) score. In order to receive points under this section the energy analysis will need to be submitted with the application. Points under this section will be awarded as follows:

(a) New MFH projects whose preliminary building plans project it will consume no more energy than it produces. (30 Points)

(b) Projects whose preliminary building plans project they will have less than a one hundred percent energy generation commitment (where generation is considered to be the total amount of energy needed to be generated on-site to make the building a net-zero consumer of energy), will be awarded points corresponding to their percent of commitment. (ex. 80 percent commitment to energy generation = 24 points or 80 percent of 30 points).

Note: This section was moved up substantially shortened.

(B) Leverage Assistance: The presence and extent of leveraged assistance for the units that will serve USDA Rural Development income-eligible tenants at basic rents, as defined in 7 CFR 3560.11, comparable to those rents if USDA Rural Development provided full financing, computed as a percentage of the USDA Rural Development total development cost (TDC). Each of the environmental conservation programs mentioned under VI.(A) may include grants and additional funding. This funding is also considered leverage assistance and can receive points under this section. Also, funding sources for energy-efficiency in each State can be found at: http://www.dsireusa.org/. Loan proposals that include leveraged/secondary funds which have been requested but have not yet been committed will be processed as follows: The proposal will be scored based on the requested secondary funds, provided (1) the applicant includes evidence of a filed application for the funds; and (2) the funding date of the requested funds will permit processing of the loan request in the current funding cycle, or, if the applicant does not receive the requested funds, will permit processing of the next highest ranked proposal in the current year. Points will be awarded in accordance with the following table. Percentages will be rounded to the next higher whole number. (0 to 30 points)

Number of points | Description % of leveraging
30 | 150 or more
25 | 100-149
20 | 50-99
15 | 1-49

(C) The units to be developed are in a colonia, tribal land, or Rural Economic Area Partnership (REAP) community, or in a place identified in the State Consolidated Plan or State Needs Assessment as a high need community for MFH. (20 points)

(D) Pursuant to 7 CFR 3560.56(c)(1)(iii), a National Office initiative will provide points to loan requests that meet the selection criteria as follows: In States where USDA Rural Development has an on-going formal working relationship, agreement, or Memorandum of Understanding (MOU) with the State to provide state financial resources (State funds, State RA, HOME funds, Community Development Block Grant (CDBG) funds, or Low-Income Housing Tax Credits (LIHTC)) for USDA Rural Development proposals; or where the State provides preference or points to USDA Rural Development proposals in awarding such State resources, 20 points will be provided to loan requests that include such State resources in an amount equal to at least 5 percent of the TDC. Native American Housing and Self Determination Act (NAHASDA) funds may be considered a State resource if the tribal plan for NAHASDA funds contains provisions for partnering with USDA Rural Development for MFH. The applicant can contact its USDA Rural Development State Office to determine whether a particular State falls into this initiative. (20 Points)

(E) The loan request includes donated land meeting the provisions of 7 CFR 3560.56(c)(1)(iv). (5 points)

(F) Pursuant to 7 CFR 3560.56(c)(1)(iii), points will be awarded if the property will be constructed in a Presidentially declared disaster area. The area must have been Presidentially declared a disaster area in 2009. For further information on Presidentially declared disaster areas, see http://www.rurdev.usda.gov/rd/disasters/. (10 Points)

VII. Set Asides

Loan requests will be accepted for the following set asides:

(1) Nonprofit set-aside. An amount of $4,617,827 has been set aside for non-profit applicants as defined in 7 CFR 3560.11. All loan proposals must be in designated places in accordance with 7 CFR 3560.57. A State or jurisdiction may fund one proposal from this set-aside, which cannot exceed $1 million. A State could get additional funds from this set-aside if any funds remain after funding one proposal from each participating State. The National Office will inform the State Offices if additional funds are available. If additional set-aside funds remain, each State's second highest scoring proposal will be funded. If there are insufficient funds to fund one loan request from each participating State, selection will be determined nationally by point score on each State's highest ranking proposal. This method will also be used if additional funds are available to fund more than 1 loan proposal per State where there are insufficient funds to fund a second or more proposal for each State. If there are any funds remaining, they will be handled in accordance with 42 U.S.C. 1485(w)(3). Funds from this set-aside will be available only to nonprofit entities, which may include a partnership that has as its general partner a nonprofit entity or the nonprofit entity's for-profit subsidiary which will be receiving low-income housing tax credits authorized under section 42 of the Internal Revenue Code of 1986. To be eligible for this set-aside, the nonprofit entity must be an organization that:

(a) Will own an interest in the project to be financed and will materially participate in the development and the operations of the project;

(b) Is a private organization that has nonprofit, tax exempt status under section 501(c)(3) or section 501(c)(4) of the Internal Revenue Code of 1986;

(c) Has among its purposes the planning, development, or management of low-income housing or community development projects; and

(d) Is not affiliated with or controlled by a for-profit organization.

(2) Underserved counties and colonias set-aside. An amount of $3,475,587 has been set-aside for loan requests to develop units in the 100 most needy underserved counties or colonias as defined in section 509(f) of the Housing Act of 1949, as amended.

(3) REAP Set-aside. An amount of $2,000,000 has been set-aside to develop units in a REAP zone. Loan requests that are eligible for this set-aside are also eligible for regular Section 515 funds. When requests for this set-aside exceed available funds, selection will be made in accordance with 7 CFR 3560.56(c) and ranking as described earlier in this NOFA. This set-aside is only available until June 30, 2010.

VIII. Rental Assistance (RA)

New construction RA will be available for FY 2010 in the amount of $2,030,000. Unused RA may be allocated from within the State jurisdiction to approved new construction projects. Unused RA can only be allocated within the same State, and shall not be reallocated to another State. New construction RA may not be used in conjunction with a transfer or subsequent loan for repairs or rehabilitation, preservation purposes or for inventory property sales.

IX. Appeal Process

Applicants that are rejected will be notified and given appeal rights under 7 CFR part 11. All adverse determinations regarding applicant's eligibility and the awarding of points as a part of the selection process are appealable. Instructions on the appeal process will be provided at the time an applicant is notified of the adverse action.

X. Equal Opportunity and Non-Discrimination Requirements

U.S. Department of Agriculture is an equal opportunity provider, employer, and lender.

Borrowers and applicants will comply with the provisions of 7 CFR 3560.2. All housing must meet the accessibility requirements found at 7 CFR 3560.60(d).

All applicants must submit or have on file a valid Form RD 400-1, “Equal Opportunity Agreement” and Form RD 400-4, “Assurance Agreement.”

The U.S. Department of Agriculture prohibits discrimination in all its programs and activities on the basis of race, color, national origin, age, disability, and where applicable, sex, marital status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

The policies and regulations contained in 7 CFR part 1901, subpart E, apply to this program.

XI. USDA Rural Development MFH State Office Contacts

Note: Telephone numbers listed are not toll-free.

Alabama State Office, Suite 601, Sterling Centre, 4121 Carmichael Road, Montgomery, AL 36106-3683, (334) 279-3618, TDD (334) 279-3495, Van McCloud.

Alaska State Office, 800 West Evergreen, Suite 201, Palmer, AK 99645, (907) 761-7740, TDD (907) 761-8905, Deborah Davis.

Arizona State Office, Phoenix Courthouse and Federal Building, 230 North First Ave., Suite 206, Phoenix, AZ 85003-1706, (602) 280-8768, TDD (602) 280-8706, Carol Torres.

Arkansas State Office, 700 W. Capitol Ave., Room 3416, Little Rock, AR 72201-3225, (501) 301-3250, TDD (501) 301-3063, Greg Kemper.

California State Office, 430 G Street, #4169, Davis, CA 95616-4169, (530) 792-5821, TDD (530) 792-5848, Debra Moretton.

Colorado State Office, 655 Parfet Street, Room E100, Lakewood, CO 80215, (720) 544-2923, TDD (800) 659-2656, Mary Summerfield.

Connecticut, Served by Massachusetts State Office.

Delaware and Maryland State Office, 1221 College Park Drive, Suite 200, Dover, DE 19904, (302) 857-3615, TDD (302) 857-3585, Pat Baker.

Florida & Virgin Islands State Office, 4440 NW 25th Place, Gainesville, FL 32606-6563, (352) 338-3465, TDD (352) 338-3499, Tresca Clemmons.

Georgia State Office, Stephens Federal Building, 355 E. Hancock Avenue, Athens, GA 30601-2768, (706) 546-2164, TDD (706) 546-2034, Wayne Rogers.

Hawaii State Office, (Services all Hawaii, American Samoa Guam, and Western Pacific), Room 311, Federal Building, 154 Waianuenue Avenue, Hilo, HI 96720, (808) 933-8305, TDD (808) 933-8321, Donald Estes.

Idaho State Office, Suite A1, 9173 West Barnes Dr., Boise, ID 83709, (208) 378-5630, TDD (208) 378-5644, Roni Atkins.

Illinois State Office, 2118 West Park Court, Suite A, Champaign, IL 61821-2986, (217) 403-6222, TDD (217) 403-6240, Barry L. Ramsey.

Indiana State Office, 5975 Lakeside Boulevard, Indianapolis, IN 46278, (317) 290-3100 (ext. 423), TDD (317) 290-3343, Paul Neumann.

Iowa State Office, 210 Walnut Street Room 873, Des Moines, IA 50309, (515) 284-4493, TDD (515) 284-4858, Heather Honkomp.

Kansas State Office, 1303 SW First American Place, Suite 100, Topeka, KS 66604-4040, (785) 271-2721, TDD (785) 271-2767, Mike Resnik.

Kentucky State Office, 771 Corporate Drive, Suite 200, Lexington, KY 40503, (859) 224-7325, TDD (859) 224-7422, Paul Higgins.

Louisiana State Office, 3727 Government Street, Alexandria, LA 71302, (318) 473-7962, TDD (318) 473-7655, Yvonne R. Emerson.

Maine State Office, 967 Illinois Ave., Suite 4, PO Box 405, Bangor, ME 04402-0405, (207) 990-9110, TDD (207) 942-7331, Bob Nadeau.

Maryland, Served by Delaware State Office.

Massachusetts, Connecticut, & Rhode Island State Office, 451 West Street, Amherst, MA 01002, (413) 253-4333, TDD (413) 253-4590, Arlene Nunes.

Michigan State Office, 3001 Coolidge Road, Suite 200, East Lansing, MI 48823, (517) 324-5192, TDD (517) 337-6795, Julie Putnam.

Minnesota State Office, 375 Jackson Street Building, Suite 410, St. Paul, MN 55101-1853, (651) 602-7812, TDD (651) 602-7830, Nancy Schmidt.

Mississippi State Office, Federal Building, Suite 831, 100 W. Capitol Street, Jackson, MS 39269, (601) 965-4325, TDD (601) 965-5850, Darnella Smith-Murray.

Missouri State Office, 601 Business Loop 70 West, Parkade Center, Suite 235, Columbia, MO 65203, (573) 876-0987, TDD (573) 876-9480, Rachelle Long.

Montana State Office, 900 Technology Blvd., Suite B, Bozeman, MT 59718, (406) 585-2515, TDD (406) 585-2562, Deborah Chorlton.

Nebraska State Office, Federal Building, Room 152, 100 Centennial Mall N, Lincoln, NE 68508, (402) 437-5734, TDD (402) 437-5093, Linda Anders.

Nevada State Office, 1390 South Curry Street, Carson City, NV 89703-5146, (775) 887-1222 (ext. 25), TDD (775) 885-0633, William Brewer.

New Hampshire State Office, Concord Center, Suite 218, Box 317, 10 Ferry Street, Concord, NH 03301-5004, (603) 223-6050, TDD (603) 229-0536, Robert McCarthy.

New Jersey State Office, 5th Floor North Suite 500, 8000 Midlantic Dr., Mt. Laurel, NJ 08054, (856) 787-7740, TDD (856) 787-7784, George Hyatt, Jr..

New Mexico State Office, 6200 Jefferson St., NE, Room 255, Albuquerque, NM 87109, (505) 761-4944, TDD (505) 761-4938, Susan Gauna.

New York State Office, The Galleries of Syracuse, 441 S. Salina Street, Suite 357 5th Floor, Syracuse, NY 13202, (315) 477-6421, TDD (315) 477-6421, Michael Bosak.

North Carolina State Office, 4405 Bland Road, Suite 260, Raleigh, NC 27609, (919) 873-2066, TDD (919) 873-2003, Beverly Casey.

North Dakota State Office, Federal Building, Room 208, 220 East Rosser, P.O. Box 1737, Bismarck, ND 58502, (701) 530-2049, TDD (701) 530-2113, Kathy Lake.

Ohio State Office, Federal Building, Room 507, 200 North High Street, Columbus, OH 43215-2477, (614) 255-2409, TDD (614) 255-2554, Cathy Simmons.

Oklahoma State Office, 100 USDA, Suite 108, Stillwater, OK 74074-2654, (405) 742-1070, TDD (405) 742-1007, Ivan S. Graves.

Oregon State Office, 1201 NE Lloyd Blvd., Suite 801, Portland, OR 97232, (503) 414-3325, TDD (503) 414-3387, Sherryl Gleason.

Pennsylvania State Office, One Credit Union Place, Suite 330, Harrisburg, PA 17110-2996, (717) 237-2281, TDD (717) 237-2261, Martha Eberhart.

Puerto Rico State Office, 654 Munoz Rivera Avenue, IBM Plaza, Suite 601, Hato Rey, PR 00918, (787) 766-5095 (ext. 249), TDD (787) 766-5332, Lourdes Colon.

Rhode Island, Served by Massachusetts State Office.

South Carolina State Office, Strom Thurmond Federal Building, 1835 Assembly Street, Room 1007, Columbia, SC 29201, (803) 253-3432, TDD (803) 765-5697, Larry D. Floyd.

South Dakota State Office, Federal Building, Room 210, 200 Fourth Street, SW, Huron, SD 57350, (605) 352-1132, TDD (605) 352-1147, Roger Hazuka or Pam Reilly.

Tennessee State Office, Suite 300, 3322 West End Avenue, Nashville, TN 37203-1084, (615) 783-1375, TDD (615) 783-1397, Don Harris.

Texas State Office, Federal Building, Suite 102, 101 South Main, Temple, TX 76501, (254) 742-9765, TDD (254) 742-9712, Scooter Brockette.

Utah State Office, Wallace F. Bennett Federal Building, 125 S. State Street, Room 4311, Salt Lake City, UT 84147-0350, (801) 524-4325, TDD (801) 524-3309, Janice Kocher.

Vermont State Office, City Center, 3rd Floor, 89 Main Street, Montpelier, VT 05602, (802) 828-6021, TDD (802) 223-6365, Heidi Setien.

Virgin Islands, Served by Florida State Office.

Virginia State Office, Culpeper Building, Suite 238, 1606 Santa Rosa Road, Richmond, VA 23229, (804) 287-1596, TDD (804) 287-1753, CJ Michels.

Washington State Office, 1835 Black Lake Blvd., Suite B, Olympia, WA 98512, (360) 704-7730, TDD (360) 704-7760, Susan McKitrick.

Western Pacific Territories, Served by Hawaii State Office.

West Virginia State Office, Federal Building, 75 High Street, Room 320, Morgantown, WV 26505-7500, (304) 284-4872, TDD (304) 284-4836, David Cain.

Wisconsin State Office, 4949 Kirschling Court, Stevens Point, WI 54481, (715) 345-7676, TDD (715) 345-7614, Cheryl Halverson.

Wyoming State Office, P.O. Box 11005, Casper, WY 82602, (307) 233-6715, TDD (307) 233-6733, Alan Brooks.

Dated: April 5, 2010.
Tammye Treviño,
Administrator Rural Housing Service.

[FR Doc. 2010-8455 Filed 4-13-10; 8:45 am]

BILLING CODE 3410-XV-P